DEPARTMENT OF ENERGY

Federal Energy Regulatory Commission

[Docket No. RP04-281-000]

Northern Natural Gas Company; Notice of Tariff Filing

May 5, 2004.

Take notice that on April 30, 2004, Northern Natural Gas Company (Northern) tendered for filing to become part of its FERC Gas Tariff, Fifth Revised Volume No. 1 the following tariff sheets, with an effective date of June 1, 2004:

First Revised Sheet 400A

Second Revised Sheet No. 403A

Second Revised Sheet No. 453

Northern states that it is filing the above-referenced tariff sheets to provide for streamlined activation of TFX and LFT service agreements and the associated SMS service with a term of one month or less. Northern states that the new provisions allow the contract to be activated without waiting to receive a signed shipper agreement.

Northern further states that copies of the filing have been mailed to each of its customers and interested State Commissions.

Any person desiring to be heard or to protest said filing should file a motion to intervene or a protest with the Federal Energy Regulatory Commission, 888 First Street, NE., Washington, DC 20426, in accordance with § 385.214 or § 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “eLibrary”. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Linda Mitry,
Acting Secretary.

[FR Doc. E4-1127 Filed 5-12-04; 8:45 am]

BILLING CODE 6717-01-P